DEPARTMENT OF THE TREASURY

Office of Thrift Supervision

[Docket No. AC-17: OTS Nos. 17967, H-4001 and H-4445]

United Bank, United Mutual Holding Company, United Financial Bancorp, Inc., West Springfield, Massachusetts; Approval of Conversion Application

Notice is hereby given that on October 12, 2007, the Office of Thrift Supervision approved the application of United Bank, West Springfield, Massachusetts, to convert to the stock form of organization. Copies of the application are available for inspection by appointment (phone number: 202-906-5922 or e-mail: Public.Info@OTS. Treas.gov) at the Public Reading Room, 1700 G Street, NW., Washington, DC 20552, and the OTS Northeast Regional Office, Harborside Financial Center Plaza Five, Suite 1600, Jersey City, New Jersey 07311.

Dated: October 12, 2007.
By the Office of Thrift Supervision.
Sandra E. Evans,
Legal Information Assistant.

[FR Doc. 07-5138 Filed 10-17-07; 8:45 am]

BILLING CODE 6720-01-M